DEPARTMENT OF HOMELAND SECURITY

Coast Guard

33 CFR Part 100

[Docket No. USCG-2013-0327]

Regattas and Marine Parades in the COTP Lake Michigan Zone—Chinatown Chamber of Commerce Dragon Boat Race, Chicago, IL

AGENCY: Coast Guard, DHS.

ACTION: Notice of enforcement of regulation.

SUMMARY: The Coast Guard will enforce the special local regulation on the South Branch of the Chicago River for the Chinatown Chamber of Commerce Dragon boat Race in Chicago, Illinois. This regulated area will be enforced from 7 a.m. until 5 p.m. on June 28, 2014. This action is necessary and intended to ensure safety of life and property on navigable waters immediately prior to, during, and immediately after the Dragon Boat race. During the aforementioned period, the Coast Guard will enforce restrictions upon, and control movement of, vessels in a portion of the Captain of the Port Lake Michigan Zone.

DATES: The regulations in 33 CFR 100.909 will be enforced from 7 a.m. until 5 p.m. on June 28, 2014.

FOR FURTHER INFORMATION CONTACT: If you have questions on this document, call or email MST1 John Ng, Waterways Management Division, Marine Safety Unit Chicago, Chicago, IL at (630) 986-2155, email John.H.Ng@uscg.mil.

SUPPLEMENTARY INFORMATION: The Coast Guard will enforce the special local regulation listed in 33 CFR 100.909, Chinatown Chamber of Commerce Dragon Boat Race; Chicago, IL. This special local regulation will encompass all waters of the South Branch of the Chicago River from the West 18th Street Bridge at position 41°51′28″ N, 087°38′06″ W to the Amtrak Bridge at position 41°51′20″ N, 087°38′13″ W (NAD 83). This year, this special local regulation will be enforced from 7 a.m. until 5 p.m. on June 28, 2014.

Vessels desiring to transit the regulated area may do so only with prior approval of the Patrol Commander and when so directed by that officer. Vessels will be operated at a no wake speed to reduce the wake to a minimum, and in a manner which will not endanger participants in the event or any other craft. The rules contained in the above two sentences shall not apply to participants in the event or vessels of the patrol operating in the performance of their assigned duties. The Patrol Commander may direct the anchoring, mooring, or movement of any boat or vessel within the regatta area.

This document is issued under authority of 33 CFR 100.909, Chinatown Chamber of Commerce Dragon Boat Race; Chicago, IL, and 5 U.S.C. 552(a). In addition to this publication in the Federal Register, the Coast Guard will provide the maritime community with advance notification of the enforcement of this special local regulation via Broadcast Notice to Mariners or Local Notice to Mariners. The Captain of the Port, Lake Michigan, or his or her on-scene representative may be contacted via Channel 16, VHF-FM.

Dated: June 16, 2014.
M.W. Sibley,
Captain, U.S. Coast Guard, Captain of the Port, Lake Michigan.

[FR Doc. 2014-15122 Filed 6-26-14; 8:45 am]

BILLING CODE 9110-04-P